NATIONAL FOUNDATION OF THE ARTS AND THE HUMANITIES

Sunshine Act Meeting; National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

DATES: Wednesday, May 23, 2018 from 9:00 a.m. to 12:30 p.m. and 1:30 p.m. to 3:00 p.m. EST

ADDRESSES: The meeting will be held at the IMLS Offices, Panel Room, Suite 4000, 955 L'Enfant Plaza North SW, Washington, DC 20024.

FOR FURTHER INFORMATION CONTACT: Katherine Maas, Program Specialist, Institute of Museum and Library Services, Suite 4000, 955 L'Enfant Plaza North SW, Washington, DC 20024. Telephone: (202) 653-4798.

SUPPLEMENTARY INFORMATION: The National Museum and Library Services Board, which advises the Director of the Institute of Museum and Library Services on general policies with respect to the duties, powers, and authority of the Institute relating to museum, library and information services, will meet on May 23, 2018. The Thirty-Seventh Meeting on Wednesday, May 23, 2018 from 9:00 a.m. to 12:30 p.m., is open to the public. The Executive Session, which will be held from 1:30-3:00 p.m., will be closed pursuant to subsections (c)(4) and (c)(9) of section 552b of Title 5, United States Code because the Board will consider information that may disclose: Trade secrets and commercial or financial information obtained from a person and privileged or confidential; and information the premature disclosure of which would be likely to significantly frustrate implementation of a proposed agency action.

If you need special accommodations due to a disability, please contact: Institute of Museum and Library Services, 955 L'Enfant Plaza North SW, Suite 4000, Washington, DC 20024, Telephone: (202) 653-4796, at least seven (7) days prior to the meeting date.

Agenda

Thirty-Seventh Meeting of the National Museum and Library Service Board Meeting:

9:00 a.m.-12:30 p.m. Thirty-Seventh Meeting of the National Museum and Library Service Board Meeting:

I. Welcome and Director's Report

II. Approval of Minutes

III. Guest Speaker: Mayor Stephen K. Benjamin, Vice President, United States Conference of Mayors

IV. Financial and Operations Report

V. Office of Museum Services Report

VI. Office of Library Services Report

VII. Office of Digital and Information Strategy Report

VIII. Quest Speaker: Dr. Kathleen Annette, President, Blandin Foundation: Community Leadership Capacity-Building for Rural and Tribal

IX. Adjourn

(Open to the Public)

1:30 p.m. to 3:00 p.m. Executive Session

(Closed to the Public)

Dated: May 1, 2018.
Danette Hensley,
Office of the General Counsel.

[FR Doc. 2018-09578 Filed 5-3-18; 11:15 am]

BILLING CODE 7036-01-P